DEPARTMENT OF COMMERCE

International Trade Administration

[A-357-812, A-570-863, C-357-813]

Continuation of Antidumping Duty Orders on Honey From Argentina and the People's Republic of China, and Continuation of Countervailing Duty Order on Honey From Argentina

AGENCY: Import Administration, International Trade Administration, Department of Commerce.

SUMMARY: As a result of the determinations by the Department of Commerce (the Department) and the International Trade Commission (the Commission) that revocation of the antidumping duty (AD) orders on honey from Argentina and the People's Republic of China (PRC) would likely lead to continuation or recurrence of dumping; that revocation of the countervailing duty (CVD) order on honey from Argentina would likely lead to continuation or recurrence of a countervailable subsidy; and, that revocation of these AD and CVD orders would likely lead to a continuation or recurrence of material injury to an industry in the United States, the Department is publishing this notice of continuation of these AD and CVD orders.

DATES: Effective Date: August 2, 2007.

FOR FURTHER INFORMATION CONTACT: Deborah Scott (AD orders), Elfi Blum (CVD order), or Dana Mermelstein, AD/CVD Operations, Import Administration, International Trade Administration, U.S. Department of Commerce, 14th Street and Constitution Ave., NW., Washington, DC 20230; telephone: (202) 482-2657, (202) 482-0197, or (202) 482-1391, respectively.

SUPPLEMENTARY INFORMATION:

Background

On November 1, 2006, the Department initiated and the Commission instituted sunset reviews of the AD orders on honey from Argentina and the PRC and the CVD order on honey from Argentina, pursuant to sections 751(c) and 752 of the Tariff Act of 1930, as amended (the Act), respectively. See Initiation of Five-Year (“Sunset”) Reviews, 71 FR 64242 (November 1, 2006) and Honey From Argentina and China, 71 FR 64292 (November 1, 2006). As a result of its reviews, the Department found that revocation of the AD orders would likely lead to a continuation or recurrence of dumping, and that revocation of the CVD order would likely lead to continuation or recurrence of subsidization, and notified the Commission of the dumping margins and the countervailable subsidy rates likely to prevail if the orders were revoked. See Honey From Argentina and the People's Republic of China; Final Results of the Expedited Five-Year (“Sunset”) Reviews of Antidumping Duty Orders, 72 FR 10150 (March 7, 2007), and Honey from Argentina: Final Results of Full Sunset Review of the Countervailing Duty Order, 72 FR 32078 (June 11, 2007).

On June 14, 2007, the Commission determined that revocation of the AD orders on honey from Argentina and the PRC and the CVD order on honey from Argentina would be likely to lead to continuation or recurrence of material injury to an industry in the United States within a reasonably foreseeable time. See Honey from Argentina and China, 72 FR 39445 (July 18, 2007), and USITC Publication 3929 (June 2007) (Inv. Nos. 701-TA-402 and 731-TA-892 and 893 (Review)).

Scope of the AD Orders

For purposes of these orders, the products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise covered by these orders is currently classifiable under subheadings 0409.00.00, 1702.90.90, and 2106.90.99 of the Harmonized Tariff Schedule of the United States (HTSUS). Although the HTSUS subheadings are provided for convenience and customs purposes, the Department's written description of the merchandise under this order is dispositive.

Scope of the CVD Order

The merchandise subject to this order is natural honey, artificial honey containing more than 50 percent natural honey by weight, preparations of natural honey containing more than 50 percent natural honey by weight, and flavored honey. The subject merchandise includes all grades and colors of honey whether in liquid, creamed, combs, cut comb, or chunk form, and whether packaged for retail or in bulk form.

The merchandise subject to this order is currently classifiable under subheadings 0409.00.00, 1702.90.90, and 2106.90.99 of the HTSUS. Although the HTSUS subheadings are provided for convenience and customs purposes, the Department's written description of the merchandise covered by this order is dispositive.

Determination

As a result of the determinations by the Department and the Commission that revocation of these AD and CVD orders would be likely to lead to continuation or recurrence of dumping or a countervailable subsidy and continuation or recurrence of material injury to an industry in the United States, pursuant to section 751(d)(2) of the Act, the Department hereby orders the continuation of the AD orders on honey from Argentina and the PRC and the CVD order on honey from Argentina.

U.S. Customs and Border Protection will continue to collect cash deposits at the rates in effect at the time of entry for all imports of subject merchandise. The effective date of continuation of these orders is the date of publication in the Federal Register of this notice of continuation. Pursuant to section 751(c)(2) of the Act, the Department intends to initiate the next five-year review of these orders not later than 30 days prior to the fifth anniversary of the effective date of continuation.

This notice also serves as the only reminder to parties subject to administrative protective order (APO) of their responsibility concerning the return/destruction or conversion to judicial protective order of proprietary information disclosed under APO in accordance with 19 CFR 351.305(a)(3). Failure to comply is a violation of the APO which may be subject to sanctions.

These five-year (“Sunset”) reviews and this continuation notice are in accordance with section 751(c) of the Act. This notice is published pursuant to 777(i) of the Act.

Dated: July 24, 2007.
David M. Spooner,
Assistant Secretary, for Import Administration.

[FR Doc. E7-14918 Filed 8-1-07; 8:45 am]

BILLING CODE 3510-DS-P